DEPARTMENT OF LABOR

Employment and Training Administration

[TA-W-38,543]

Hercules Inc., Aqualon Division, Parlin, NJ; Notice of Termination of Investigation

Pursuant to section 221 of the Trade Act of 1974, an investsigation was initiated on January 16, 2001, in response to a worker petition which was filed by the company on behalf of its workers at Hercules Inc., Aqualon Division, located in Parlin, New Jersey. The affected produce natrosol.

The petitioner has requested that the petition be withdrawn. Consequently further investigation in this case would serve no purpose, and the investigation has been terminated.

Signed in Washington, DC this 21st day of February, 2001.
Linda G. Poole,
Certifying Officer, Division of Trade Adjustment Assistance.

[FR Doc. 01-6447 Filed 3-14-01; 8:45 am]

BILLING CODE 4510-30-M